DEPARTMENT OF ENERGY

Federal Energy Regulatory Commission

[Project No. 3428-205]

Brown Bear II Hydro, Inc.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 3428-205.

c. Date Filed: November 29, 2023.

d. Applicant: Brown Bear II Hydro, Inc. (Brown Bear Hydro).

e. Name of Project: Worumbo Hydroelectric Project (Worumbo Project).

f. Location: On the Androscoggin River in Androscoggin County, Maine.

g. Filed Pursuant to: Federal Power Act, 16 U.S.C. 791(a)-825(r).

h. Applicant Contact: Mr. David Fox, Senior Director, Regulatory Affairs, Brown Bear II Hydro, Inc. c/o Eagle Creek Renewable Energy, 7315 Wisconsin Avenue Suite 1100W, Bethesda MD 20814; telephone at (201) 306-5616, or email at david.fox@eaglecreekre.com.

i. FERC Contact: Jody Callihan at (202) 502-8278 or email at jody.callihan@ferc.gov.

j. Deadline for filing motions to intervene and protests, comments, recommendations, preliminary terms and conditions, and preliminary fishway prescriptions: on or before 5:00 p.m. Eastern Time on March 16, 2026; reply comments are due on or before 5:00 p.m. Eastern Time on April 29, 2026.

The Commission strongly encourages electronic filing. Please file motions to intervene and protests, comments, recommendations, preliminary terms and conditions, and preliminary fishway prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Worumbo Hydroelectric Project (P-3428-205).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Worumbo Project consists of the following existing facilities: (1) an 870-foot-long concrete gravity dam consisting of a 116-foot-long gated spillway containing four 18-foot-wide and 26-foot-high vertical lift gates, and three flashboard spillway sections including (from north to south along the dam): a 233-foot-long ogee spillway topped by 38 2-foot-high hinged steel flashboard panels with a top elevation of 99 feet National Geodetic Vertical Datum of 1929 (NGVD29) that are designed to fail when the pond elevation reaches 101 feet NGVD29, a 167-foot-long concrete gravity section with 11 Obermeyer air bags controlling 11 2.25-foot-high steel flashboard panels with a top elevation of 99 feet NGVD29 that are designed to deflate and lower when the pond elevation reaches 100.44 feet NGVD29, and a 349-foot-long concrete gravity section with Obermeyer pneumatic flashboards designed to deflate when the pond elevation reaches 100 feet NGVD29; (2) an impoundment with a gross storage capacity of 2,000 acre-feet and a surface area of 240 acres at the normal full-pond elevation of 98.5 feet NGVD29; (3) a 337-foot-long concrete retaining wall with a top elevation of 108 feet NGVD29 leading to the intake structure; (4) a concrete intake structure integral with the powerhouse, containing two vertical slide gates each 33 feet wide and 40 feet high, which are normally fully open and protected by trash racks; (5) a 105-foot-wide, 145-foot-long reinforced concrete powerhouse containing two Kaplan bulb turbine-generator units with a total generating capacity of 19.4 megawatts; (6) an approximately 30-foot-high vertical fish-lift, four vertical attraction pumps, an 8-foot-long and 8-foot-wide hopper lift tank, and a viewing room; (7) an upstream eel passage system consisting of two 2-foot-wide, 7-foot-long bristled ramps, and an eel trap; (8) a downstream fish passage system consisting of three entry way gates with trash racks, a 36-inch-diameter downstream passage pipe, and a 30-foot-wide, 20-foot-long, 10-foot-deep plunge pool; (9) an 850-foot-long, approximately 80-foot-wide, tailrace excavated from the downstream powerhouse wall to the State Route 125 bridge, flanked by a 200-foot-long concrete retaining wall on the north side and a 230-foot-long concrete training wall on the south side; (10) a 3,540-foot-long, 34.5-kilovolt transmission line leading to the Central Maine Power Company's Lisbon Falls substation; and (11) appurtenant facilities. The project has an average annual generation (from 2013 through 2023) of 87,203 megawatt-hours.

Formal project recreation facilities include a portage trail with a take-out and put-in along the northern shoreline of the river. Lisbon Falls Fishing Park, which contains a parking area and shoreline access trail, is owned by Brown Bear Hydro; however, this facility is currently within the project boundary of the downstream Pejepscot Hydroelectric Project (FERC No. 4784). Brown Bear Hydro proposes to assume the operation and maintenance responsibility of Lisbon Falls Fishing Park, and requests the Commission modify the current project boundary to include this facility.

Brown Bear Hydro proposes to continue operating the project in a run-of-river mode by maintaining the project impoundment at a normal maximum operating level of 98.5 feet NGVD29 (top of the Obermeyer pneumatic flashboards) and providing seasonal minimum flows into the bypassed reach to ensure sufficient downstream water depths for migratory (diadromous) fishes, such as Atlantic salmon, American shad, American eel, blueback herring, and alewife. Brown Bear Hydro proposes continuing current operation of the fish passage facilities described above. Specifically, the vertical fish lift would begin operating within 24 hours of the opening of the Brunswick Hydroelectric Project's (FERC No. 2284) upstream fishway or May 1, whichever comes earlier; the vertical fish lift would be operated until November 15 of each year, river conditions permitting. The downstream fish passage facilities would be operated from April 1 through December 31 each year, as river and ice conditions allow. Brown Bear Hydro proposes no new project construction or operational changes at this time.

m. A copy of the application can be viewed on the Commission's website at https://www.ferc.gov using the “eLibrary” link. Enter the docket number excluding the last three digits in the docket number field to access the document (P-3428). For assistance, contact FERC Online Support (see item j above).

You may also register online at https://www.ferc.gov/ferc-online/overview to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

o. The applicant must file the following on or before 5:00 p.m. Eastern Time on March 16, 2026: (1) a copy of the water quality certification; (2) a copy of the request for certification, including proof of the date on which the certifying agency received the request; or (3) evidence of waiver of water quality certification.

p. Final amendments to the application must be filed with the Commission on or before 5:00 p.m. Eastern Time on February 13, 2026.

(Authority: 18 CFR 2.1.)

Dated: January 14, 2026.
Debbie-Anne A. Reese,
Secretary.

[FR Doc. 2026-00982 Filed 1-16-26; 8:45 am]

BILLING CODE 6717-01-P